DEPARTMENT OF ENERGY

Federal Energy Regulatory Commission

[Docket No. CP20-52-000]

WBI Energy Transmission, Inc.; Notice of Schedule for Environmental Review of the North Bakken Expansion Project

On February 14, 2020, WBI Energy Transmission, Inc. (WBI Energy) filed an application in Docket No. CP20-52-000 requesting a Certificate of Public Convenience and Necessity pursuant to 7(c) of the Natural Gas Act to construct and operate certain natural gas facilities in Burke, McKenzie, Mountrail, and Williams Counties, North Dakota. The proposed project is known as the North Bakken Expansion Project (Project), and would provide incremental firm transportation capacity from natural gas processing plants to a proposed interconnect with Northern Border Pipeline Company in McKenzie County, North Dakota.

On February 26, 2020, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—September 4, 2020

90-day Federal Authorization Decision Deadline—December 3, 2020

If a schedule change becomes necessary, additional notice will be provided so that the relevant agencies are kept informed of the Project's progress.

Project Description

WBI Energy proposes to construct and operate five sections of new natural gas pipeline, a new compressor station, and modifications to an existing compressor station (totaling 92.5 miles of pipeline and 26,250 horsepower of compression), all in North Dakota. The Project would provide about 350 million standard cubic feet of natural gas per day to the Midwest via Northern Border Pipeline Company's existing mainline.

The Project includes: (i) 61.9 Miles of 24-inch-diameter pipeline from WBI Energy's Tioga Compressor Station in Williams County to the proposed Elkhorn Creek Compressor Station in McKenzie County; (ii) 0.3 mile of 24-inch-diameter pipeline from the proposed Elkhorn Creek Compressor Station to a new interconnect with Northern Border Pipeline Company; (iii) 20.4 miles of 12-inch-diameter pipeline looping along WBI Energy's Line Section 25 in Mountrail and Burke Counties- ¹; (iv) 9.4 miles of 12-inch-diameter pipeline looping along WBI Energy's Line Section 30 in Williams County; (v) 0.5 mile of 20-inch-diameter receipt lateral to the Tioga Compressor Station; (vi) uprating WBI Energy's Line Section 25; (vii) installing 22,500 additional horsepower at the existing Tioga Compressor Station; (viii) constructing a new 3,750 horsepower compressor station, the Elkhorn Creek Compressor Station, in McKenzie County; and (ix) and other associated appurtenances.

¹ A pipeline loop is a segment of pipe constructed parallel to an existing pipeline to increase capacity.

Background

On July 3, 2019, the Commission staff granted WBI Energy's request to use the FERC's pre-filing environmental review process and assigned the Project Docket No. PF19-7-000. On September 13, 2019, the Commission issued a Notice of Intent to Prepare an Environmental Assessment for the Planned North Bakken Expansion Project, Request for Comments on Environmental Issues, and Notice of Public Scoping Session (NOI). The NOI was issued during the pre-filing review of the Project and was sent to affected landowners; federal, state, and local government agencies; elected officials; environmental interest groups; Native American tribes; other interested parties; and local libraries.

In response to the NOI, the Commission received comments from the North Dakota Department of Environmental Quality (DEQ) and two landowners. The North Dakota DEQ recommended the Project avoid Source Water Protection Areas, section 303(d) Waters, and surface and groundwater drinking sources. The DEQ also stated that WBI Energy should obtain a Stormwater Construction Permit and implement proper monitoring for the early leak detection. The primary environmental issues raised by the other commentors were project location, trespassing, impacts on water resources and soils, seeding, and spreading of weeds. All substantive comments will be addressed in the EA.

The Bureau of Land Management, the U.S. Army Corps of Engineers, and the U.S. Forest Service are cooperating agencies in the preparation of the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the “eLibrary” link, select “General Search” from the eLibrary menu, enter the selected date range and “Docket Number” excluding the last three digits (i.e., CP20-52), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: April 10, 2020.
Kimberly D. Bose,
Secretary.

[FR Doc. 2020-08036 Filed 4-15-20; 8:45 am]

BILLING CODE 6717-01-P